DEPARTMENT OF ENERGY

Federal Energy Regulatory Commission

[Docket No. CP00-170-000]

Southern Natural Gas Company; Notice of Application

April 21, 2000.

Take notice that on April 10, 2000, Southern Natural Gas Company (Southern), P.O. Box 2563, Birmingham, Alabama 35202-2563, pursuant to Section 7(b) of the Natural Gas Act, as amended, and the rules and regulations of the Federal Energy Regulatory Commission (Commission), filed in Docket No. CP00-170-000 an application seeking abandonment authority to convert the transportation storage services it renders under its STS-1 and ST-1 Rate Schedules on behalf of the City of LaGrange, Georgia and Albany Water, Gas and Light Commission, effective as of October 1, 2000, from a Part 157 certificated service to a Part 284 seasonal service. In addition, Southern seeks pre-granted abandonment authority under Section 7 of the Natural Gas Act to convert the transportation storage services it renders under its STS-1 and ST-2 Rate Schedules on behalf of Atlanta Gas Light Company (AGLC) from a Part 157 certificated service to a Part 284 seasonal service, upon notification from AGLC or a Certificated Marketer to which it has assigned such service effective on October 1, 2001, October 1, 2002, or October 1, 2003, with all such services to be converted no later than October 1, 2004. This proposal is part of an overall settlement proposal filed by Southern on March 10, 2000, in Docket Nos. RP99-496-000 and RP99-496-001 to resolve all outstanding issues in Southern's Section 4 rate proceeding.

Any persons desiring to participate in the hearing process or make any to protest with reference to said application should file a motion to intervene or a protest with the Federal Energy Regulatory Commission, 888 First Street, NE, Washington, DC 20426, in accordance with Sections 385.214 or 385.211 of the Commission's Rules of Practice and Procedure, (18 CFR 385.214, 385.211). All such petitions or protests should be filed on or before May 1, 2000. Protests filed with the Commission will be considered in determining the appropriate action to be taken but will not serve to make protestants parties to the proceeding. Any person wishing to become a party must file a motion to intervene in accordance with the commission's rules. Copies of this filing are on file with the Commission and are available for public inspection. This filing may be viewed on the web at http://www.ferc.fed.us/online/rims.htm (call 202-208-2222 for assistance).

Take further notice that, pursuant to the authority contained in and subject to the jurisdiction conferred upon the Commission by Sections 7 and 15 of the Natural Gas Act and the Commission's Rules of Practice and Procedure, a hearing will be held without further notice before the Commission or its designee on this application, if no motion to intervene is filed within the time required herein, if the Commission on its own review of the matter finds that a grant of the abandonment and amendment of the certificate is required by the public convenience and necessity. If a protest or motion for leave to intervene is timely filed, or if the Commission on its own motion believes that a formal hearing is required, further notice of such hearing will be duly given.

Under the procedures herein provided for, unless otherwise advised, it will be unnecessary for Southern to appear or be represented at the hearing.

David P. Boergers,
Secretary.

[FR Doc. 00-10468 Filed 4-26-00; 8:45 am]

BILLING CODE 6717-01-M